DEPARTMENT OF HOMELAND SECURITY

Federal Emergency Management Agency

[Docket ID: FEMA-2018-0004; OMB No. 1660-0085]

Agency Information Collection Activities: Proposed Collection; Comment Request; Crisis Counseling Assistance and Training Program

AGENCY: Federal Emergency Management Agency, DHS.

ACTION: Notice and request for comments.

SUMMARY: The Federal Emergency Management Agency, as part of its continuing effort to reduce paperwork and respondent burden, invites the general public to take this opportunity to comment on a revision of a currently approved information collection. In accordance with the Paperwork Reduction Act of 1995, this notice seeks comments concerning the Crisis Counseling Assistance and Training Program which provides funding in response to a State's request for crisis counseling services for a presidentially declared major disaster.

DATES: Comments must be submitted on or before April 2, 2018.

ADDRESSES: To avoid duplicate submissions to the docket, please use only one of the following means to submit comments:

(1) Online. Submit comments at www.regulations.gov under Docket ID FEMA-2018-0004. Follow the instructions for submitting comments.

(2) Mail. Submit written comments to Docket Manager, Office of Chief Counsel, DHS/FEMA, 500 C Street SW, 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Jennifer Voorhies, Lead, Community Services Individual Assistance/Recovery, jennifer.voorhies@fema.dhs.gov. You may contact the Records Management Division for copies of the proposed collection of information at email address: FEMA-Information-Collections-Management@fema.dhs.gov.

SUPPLEMENTARY INFORMATION: Section 416 of the Robert T. Stafford Disaster Relief and Emergency Assistance Act, (Pub. L. 93-288, as amended) (“Stafford Act”), authorizes the President to provide professional counseling services, including financial assistance to States, U.S. Territories, Federally recognized Indian Tribal governments, local agencies or private mental health organizations for professional counseling services to survivors of major disasters to relieve mental health problems caused or aggravated by a major disaster or its aftermath. FEMA codified Section 416 of the Stafford Act at section 44 CFR 206.171 entitled Crisis Counseling Assistance and Training. Under Section 416 of the Stafford Act and 44 CFR 206.171, the President has designated the Department of Health and Human Services-Center for Mental Health Services (HHS-CMHS) to coordinate with FEMA in administering the Crisis Counseling Assistance and Training Program (CCP). FEMA and HHS-CMHS signed an interagency agreement under which HHS-CMHS provides program oversight, technical assistance and training to States applying for CCP funding.

FEMA is proposing to revise the collection by removing the option A from question 8 on the CCP/ISP Crisis Counseling Assistance and Training Program, Immediate Services Program Application/FEMA Form 003-0-1 and option A from question 12 on the CCP/RSP Crisis Counseling Assistance and Training Program, Regular Services Program Application/FEMA Form 003-0-2. The removal of this option from both forms will result in a minor hour burden reduction of 3.9 hours. FEMA welcomes input from the public on the removal of option A from both forms, which allows the State to use their own method to estimate the population to be served, as well as the estimated burden hour reduction of 3.9 hours.

Collection of Information

Title: Crisis Counseling Assistance and Training Program.

Type of Information Collection: Revision of a currently approved information collection.

OMB Number: 1660-0085.

FEMA Forms: FEMA Form 003-0-1, Crisis Counseling Assistance and Training Program, Immediate Services Program Application; FEMA Form 003-0-2, Crisis Counseling Assistance and Training Program, Regular Services Program Application; SF-424, Application for Federal Assistance; SF-424A, Budget Information for Non-Construction Programs; SF-425, Federal Financial Report; HHS Checklist/08-2007; HHS Project Performance Site Location Form; ISP report narrative; Quarterly Report Narratives; Final RSP Report Narrative,.

Abstract: The CCP consists of two grant programs, the Immediate Services Program (ISP) and the Regular Services Program (RSP). The ISP and the RSP provide supplemental funding to States, U.S. Territories, and Federally recognized Tribes following a Presidentially-declared disaster. The grant programs provide funding for Training and Services, including community outreach, public education, and counseling techniques. States are required to submit an application that provides information on Needs Assessment, Plan of Service, Program Management, and an accompanying Budget.

Affected Public: State, local or Tribal government.

Estimated Number of Respondents: 150.

Estimated Number of Responses: 165.

Estimated Total Annual Burden Hours: 1511.1.

Estimated Total Annual Respondent Cost: $116,010.

Estimated Respondents' Capital and Start-Up Costs: $0.

Estimated Total Annual Cost to the Federal Government: $120,735.

Comments

Comments may be submitted as indicated in the ADDRESSES caption above. Comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: January 25, 2018.
William H. Holzerland,
Sr. Director for Information Management, Mission Support, Department of Homeland Security.

[FR Doc. 2018-01765 Filed 1-29-18; 8:45 am]

BILLING CODE 9111-23-P